DEPARTMENT OF VETERANS AFFAIRS

Veterans' Advisory Committee on Education, Notice of Meeting

The Department of Veterans Affairs (VA) gives notice under the Federal Advisory Committee Act, 5 U.S.C. ch. 10, that the Veterans' Advisory Committee on Education (“Committee”) will meet November 13-15, 2023, from 11.00 a.m. to 5:00 p.m. Eastern Standard Time virtually via the Microsoft Teams platform. All sessions are open to the public.

The purpose of the Committee is to advise the Secretary of Veterans Affairs on the administration of education and training programs for Veterans, Service members, Reservists and Dependents of Veterans including programs under Chapters 30, 32, 33, 35, and 36 of title 38, and Chapter 1606 of title 10, United States Code.

The purpose of this meeting is for the Committee to hear reports from three subcommittees (Modernization, Veteran Vocational Education and Training Programs, and Distance Learning), to hear other updates and briefings, and to discuss potential 2023 recommendations.

Interested persons may attend virtually via Microsoft Teams. Please email EDUSTAENG.VBAVACO@va.gov prior to November 10, 2023, if you wish to attend or you can dial-in by phone (for audio only) at 1-205-235-3524 (Toll) using the Conference ID: 868 260 319#.

Time will be allotted for receiving oral presentations from the public and individuals wishing to share information with the Committee may submit written statements for the Committee's review to Ms. Kaprice Dyson, Designated Federal Official, Department of Veterans Affairs, by email at EDUSTAENG.VBAVACO@va.gov. Advance comments will be accepted until close of business on Friday, November 10, 2023. In the communication, the writers must identify themselves and state the organization or association they represent for inclusion in the official record.

Dated: October 23, 2023.
Jelessa M. Burney,
Federal Advisory Committee Management Officer.

[FR Doc. 2023-23648 Filed 10-25-23; 8:45 am]

BILLING CODE P